DEPARTMENT OF HOMELAND SECURITY

Coast Guard

33 CFR Part 117

[Docket No. USCG-2016-1029]

Drawbridge Operation Regulation; Northeast Cape Fear River, Wilmington, NC

AGENCY: Coast Guard, DHS.

ACTION: Notice of deviation from drawbridge regulation.

SUMMARY: The Coast Guard has issued a temporary deviation from the operating schedule that governs the CSX Hilton Railroad Bridge across the Northeast Cape Fear River, mile 1.5, at Wilmington, NC. This deviation is necessary to manually operate the bridge and perform emergency bridge repairs. This deviation allows the bridge to remain in the closed-to-navigation position.

DATES: This deviation is effective without actual notice from November 25, 2016 through 6 p.m. on December 9, 2016. For the purposes of enforcement, actual notice will be used from November 18, 2016 at 3:45 p.m., until November 25, 2016.

ADDRESSES: The docket for this deviation, [USCG-2016-1029] is available at http://www.regulations.gov. Type the docket number in the “SEARCH” box and click “SEARCH”. Click on Open Docket Folder on the line associated with this deviation.

FOR FURTHER INFORMATION CONTACT: If you have questions on this temporary deviation, call or email Mr. Hal R. Pitts, Bridge Administration Branch Fifth District, Coast Guard, telephone 757-398-6222, email Hal.R.Pitts@uscg.mil.

SUPPLEMENTARY INFORMATION: The CSX Corporation, owner and operator of the CSX Hilton Railroad Bridge across the Northeast Cape Fear River, mile 1.5, in Wilmington, NC, has requested a temporary deviation from the current operating regulations due to an electrical casualty to the submarine cable and electrical components caused by Hurricane Matthew. The bridge is limited to manual operation, which requires personnel to manually operate components of the bridge in locations where additional safety measures are required, limiting the bridge to daylight operations. The bridge is a bascule draw bridge and has a vertical clearance in the closed position of 4 feet above mean high water.

The current operating schedule is set out in 33 CFR 117.829(b). Under this temporary deviation, the bridge will remain in the closed-to-navigation position and open on signal during daylight hours, if at least 3 hours notice is given.

The Northeast Cape Fear River is used by a variety of vessels including small commercial fishing vessels, recreational vessels and tugs and barges. The Coast Guard has carefully coordinated the restrictions with waterway users.

Vessels able to safely pass through the bridge in the closed position may do so at any time. The bridge will not be able to open for emergencies and there is no immediate alternate route for vessels to pass. The Coast Guard will also inform the users of the waterways through our Local and Broadcast Notices to Mariners of the change in operating schedule for the bridge so that vessel operators can arrange their transit to minimize any impact caused by the temporary deviation.

In accordance with 33 CFR 117.35(e), the drawbridge must return to its regular operating schedule immediately at the end of the effective period of this temporary deviation. This deviation from the operating regulations is authorized under 33 CFR 117.35.

Dated: November 18, 2016.
Hal R. Pitts,
Bridge Program Manager, Fifth Coast Guard District.

[FR Doc. 2016-28331 Filed 11-23-16; 8:45 am]

BILLING CODE 9110-04-P